DEPARTMENT OF HOMELAND SECURITY

U.S. Customs and Border Protection

[Docket No. USCBP-2017-0005]

Request for Applicants for Appointment to the U.S. Customs and Border Protection User Fee Advisory Committee

AGENCY: U.S. Customs and Border Protection, Department of Homeland Security.

ACTION: Committee management; request for applicants for appointment to the U.S. Customs and Border Protection User Fee Advisory Committee.

SUMMARY: U.S. Customs and Border Protection is requesting individuals who are interested in serving on the U.S. Customs and Border Protection User Fee Advisory Committee to apply for appointment. The U.S. Customs and Border Protection User Fee Advisory Committee is tasked with providing advice to the Secretary of the Department of Homeland Security through the Commissioner of U.S. Customs and Border Protection on matters related to the performance of inspections coinciding with the assessment of an agriculture, customs, or immigration user fee.

DATES: Applications for membership should be submitted to U.S. Customs and Border Protection at the address below on or before July 14, 2017.

ADDRESSES: If you wish to apply for membership, your application should be submitted by one of the following means:

• Email: Traderelations@dhs.gov.

• Fax: (202) 325-4290.

• Mail: Ms. Wanda Tate, Office of Trade Relations, U.S. Customs and Border Protection, 1300 Pennsylvania Avenue NW., Room 3.5A, Washington, DC 20229.

FOR FURTHER INFORMATION CONTACT: Ms. Wanda Tate, Office of Trade Relations, U.S. Customs and Border Protection, 1300 Pennsylvania Avenue NW., Room 3.5A, Washington, DC 20229; telephone (202) 344-1440; facsimile (202) 325-4290.

SUPPLEMENTARY INFORMATION: The U.S. Customs and Border Protection User Fee Advisory Committee is an advisory committee established in accordance with the provisions of the Federal Advisory Committee Act, 5 U.S.C. Appendix.

Balanced Membership Plans: The U.S. Customs and Border Protection User Fee Advisory Committee may consist of up to 20 members. Members are appointed by and serve at the pleasure of the Secretary of the Department of Homeland Security. Members are selected to represent the point of view of the airline, cruise ship, transportation, and other industries that may be subject to agriculture, customs, or immigration user fees and are not Special Government Employees as defined in 18 U.S.C. 202(a). To achieve a fairly balanced membership, the composition of an advisory committee's membership will depend upon several factors, including the advisory committee's mission; the geographic, ethnic, social, economic, or scientific impact of the advisory committee's recommendations; the types of specific perspectives required, for example, such as those of consumers, technical experts, the public at-large, academia, business, or other sectors; the need to obtain divergent points of view on the issues before the advisory committee; and the relevance of State, local, or tribal governments to the development of the advisory committee's recommendations. The Commissioner of U.S. Customs and Border Protection will consider a cross-section of those directly affected, interested, and qualified, as appropriate to the nature and functions of the U.S. Customs and Border Protection User Fee Advisory Committee (Committee). Members shall not be paid or reimbursed for any travel, lodging expenses, or related costs for their participation on this Committee.

Committee Meetings

The Committee is expected to meet at least once per year. Additional meetings may be held with the approval of the Designated Federal Officer. Committee meetings shall be open to the public unless a determination is made by the appropriate Department of Homeland Security official in accordance with Department of Homeland Security policy and directives that the meeting should be closed in accordance with 5 U.S.C. 552b(c).

Committee Membership

Appointees will serve a two-year term of office to run concurrent with the duration of the charter.

No person who is required to register under the Foreign Agents Registration Act as an agent or representative of a foreign principal may serve on this Committee.

Members who are currently serving on the Committee are eligible to re-apply for membership provided that they are not in their second consecutive term and that they have met the attendance requirements. A new application letter is required. Members will not be paid compensation by the Federal Government for their services with respect to the U.S. Customs and Border Protection User Fee Advisory Committee.

Application for Advisory Committee Appointment

Any interested person wishing to serve on the U.S. Customs and Border Protection User Fee Advisory Committee must provide the following:

• Statement of interest and reasons for application;

• Complete professional resume;

• Home address and telephone number;

• Work address, telephone number, and email address; and

• Statement of the industry you represent.

The Department of Homeland Security does not discriminate on the basis of race, color, religion, sex, national origin, sexual orientation, gender identity, marital status, disability and genetic information, age, membership in an employee organization, or other non-merit factor. The Department of Homeland Security strives to achieve a widely diverse candidate pool for all of its recruitment actions.

Dated: May 23, 2017.
Kevin K. McAleenan,
Acting Commissioner, U.S. Customs and Border Protection.

[FR Doc. 2017-10961 Filed 5-26-17; 8:45 am]

BILLING CODE 9111-14-P